DEPARTMENT OF ENERGY

Federal Energy Regulatory Commission

[Project No. 12478-003]

Gibson Dam Hydroelectric Company, LLC; Notice of Application Tendered for Filing With the Commission

September 4, 2009.

Take notice that the following hydroelectric application has been filed with the Commission and is available for public inspection.

a. Type of Application: Major Project—Existing Dam.

b. Project No.: P-12478-003.

c. Date Filed: August 28, 2009.

d. Applicant: Gibson Dam Hydroelectric Company, LLC.

e. Name of Project: Gibson Dam Hydroelectric Project.

f. Location: On the Sun River, near the towns of Augusta and Fairfield, Lewis and Clark and Teton Counties, Montana. The project would occupy 95.34 acres of Federal land administered by the U.S. Forest Service and 19.39 acres of Federal land administered by the U.S. Bureau of Land Management for a total of 114.73 acres of Federal land.

g. Filed Pursuant to: Federal Power Act 16 U.S.C. 791(a)-825(r).

h. Applicant Contact: Steve C. Marmon, GDHC, and Thom A. Fischer, P.E., Whitewater Engineering Corporation, 3633 Alderwood Ave., Bellingham, WA 98225, (360) 738-9999.

i. FERC Contact: Matt Cutlip, phone: (503) 552-2762, e-mail: matt.cutlip@ferc.gov.

j. Cooperating agencies: Federal, State, local, and tribal agencies with jurisdiction and/or special expertise with respect to environmental issues that wish to cooperate in the preparation of the environmental document should follow the instructions for filing such requests described in item 1 below. Cooperating agencies should note the Commission's policy that agencies that cooperate in the preparation of the environmental document cannot also intervene. See, 94 FERC ¶ 61,076 (2001).

k. Deadline for filing requests for cooperating agency status: October 27, 2009.

All documents may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

l. The application is not ready for environmental analysis at this time.

m. The proposed project would utilize the existing facilities of the U.S. Bureau of Reclamation's Gibson Dam including the reservoir, existing valve house, and two existing dam outlet pipes; and would consist of the following new facilities: (1) Two new 72-inch-diameter penstocks extending 40 feet from the existing outlet pipes to the powerhouse; (2) a new powerhouse located near the toe of the dam with four turbine/generating units with total installed capacity of 15 megawatts; (3) a new 25.8-mile, 34.5/69 kV overhead and underground transmission line from the powerhouse to an interconnection point with Sun River Electric Cooperative, Inc.'s existing 69 kV transmission line at Jackson's Corner; (4) a new 34.5/69 kV step-up substation; (5) a new maintenance building located approximately 1,400 feet downstream of the powerhouse adjacent to existing Gibson Dam operations facilities; and (6) appurtenant facilities. The average annual generation is estimated to be 40 gigawatt-hours.

n. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via e-mail of new filings and issuances related to this or other pending projects. For assistance, contact FERC Online Support.

o. Procedural schedule: The application will be processed according to the following Hydro Licensing Schedule. Revisions to the schedule will be made as appropriate.

Issue Deficiency Letter (if needed): October 2009.

Issue Acceptance Letter: January 2010.

Notice soliciting final terms and conditions: February 2010.

Notice of the availability of the draft EA: September 2010.

Notice of the availability of the final EA: February 2011.

Kimberly D. Bose,
Secretary.

[FR Doc. E9-22089 Filed 9-14-09; 8:45 am]

BILLING CODE 6717-01-P